FEDERAL COMMUNICATIONS COMMISSION

Notice of Public Information Collection(s) Being Submitted for Review to the Office of Management and Budget, Comments Requested

December 14, 2007.

SUMMARY: The Federal Communications Commission, as part of its continuing effort to reduce paperwork burden, invites the general public and other Federal agencies to take this opportunity to comment on the following information collection(s), as required by the Paperwork Reduction Act of 1995, 44 U.S.C. Sections 3501—3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 25, 2008. If you anticipate that you will be submitting comments, but find it difficult to do so within the period of time allowed by this notice, you should advise the contact listed below as soon as possible.

ADDRESSES: Direct all PRA comments to Nicholas A. Fraser, Office of Management and Budget, via e-mail to Nicholas_A._Fraser@omb.eop.gov or via fax at 202-395-5126, and to the Federal Communications Commission via e-mail to PRA@fcc.gov or by U.S. mail to Leslie F. Smith, Federal Communications Commission, Room 1-C216, 445 12th Street, SW., Washington, DC 20554.

FOR FURTHER INFORMATION CONTACT: For additional information contact Leslie F. Smith via e-mail at PRA@fcc.gov or call (202) 418-0217. To view a copy of this information collection request: 3060-0972, submitted to OMB: (1) Go to this OMB/GSA Web page: http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of the ICR (or its OMB control number, if there is one) and then click on the ICR Reference Number to view detailed information about the ICR.

SUPPLEMENTARY INFORMATION: OMB Control Number: 3060-0972.

Title: Multi-Association Group (MAG) Plan Order, Parts 54 and 69 Filing Requirements for Regulation of Interstate Services of Non-Price Cap Incumbent Local Exchange Carriers and Interexchange Carriers.

Form Number(s): FCC Forms 507, 508, and 509.

Type of Review: Extension of a currently approved collection.

Respondents: Not-for-profit institutions; and business or other for-profit.

Number of Respondents and Responses: 1,300 respondents; 9,826 responses.

Estimated Time per Response: 1 hour to 90 hours.

Frequency of Response: On occasion, quarterly, annual, one-time, and three year reporting requirements; recordkeeping; and third party disclosure.

Obligation to Respond: Required to obtain or retain benefits.

Total Annual Burden: 40,451 hours.

Total Annual Cost: $45,195.

Privacy Act Impact Assessment: No impact(s).

Nature and Extent of Confidentiality: The Commission is not requesting that the respondents submit confidential information to the FCC. Respondents may, however, request confidential treatment for information they believe to be confidential under 47 CFR 0.459 of the Commission's rules.

Needs and Uses: To administer the Universal Service Interstate Common Line Support (ICLS) mechanism, the Administrator of USAC (Universal Service Administrative Company) must collect projected cost and revenue data and actual cost and revenue data from non-price cap incumbent local exchange carriers and interexchange carriers. In order to implement change to the interstate access tariffs, the Commission must continue to collect certain tariff-related information.

Federal Communications Commission.
Marlene H. Dortch,
Secretary.

[FR Doc. E7-24895 Filed 12-21-07; 8:45 am]

BILLING CODE 6712-01-P